OFFICE OF PERSONNEL MANAGEMENT

Notice of Federal Long Term Care Insurance Program Enrollee Decision Period for Current Enrollees

AGENCY: Office of Personnel Management.

ACTION: Notice of Federal Long Term Care Insurance Program Enrollee Decision Period for Current Enrollees.

SUMMARY: The U.S. Office of Personnel Management (OPM) is announcing rules for current enrollees in the Federal Long Term Care Insurance Program (FLTCIP) who will be eligible to change coverage during a limited Enrollee Decision Period to be held this year. These rules pertain only to current eligible enrollees who may make certain changes because of premium rate increases that affect most enrollees. Eligible enrollees whose application was received on or before July 31, 2015, and whose enrollment was approved may make changes during this Enrollee Decision Period, provided they are not in benefit eligible status. Enrollees affected by the premium rate increase will receive information from Long Term Care Partners, the administrator of FLTCIP, with information on their opportunities to make changes to their coverage.

DATES: The Enrollee Decision Period will be from July 18, 2016 through September 30, 2016.

FOR FURTHER INFORMATION CONTACT: Enrollees may call 1-800-LTC-FEDS (1-800-582-3337) (TTY: 1-800-843-3557) or visit http://www.ltcfeds.com. For purposes of this Federal Register notice only, the contact at OPM is Rina Shah, Senior Policy Analyst, Planning and Policy Analysis at rina.shah@opm.gov or (202) 606-1427.

SUPPLEMENTARY INFORMATION: The Long-Term Care Security Act (Pub. L. 106-265) directs OPM to provide periodic opportunities for eligible persons to apply for coverage under the FLTCIP. OPM has issued regulations (5 CFR 875.402-875.404) which set forth procedures for FLTCIP open seasons. This notice is issued under the provisions of § 875.402(c). The Enrollee Decision Period described in this Notice is solely for current enrollees affected by the premium increase to make coverage changes. Eligible enrollees will be notified directly about the Enrollee Decision Period by Long Term Care Partners, LLC, the program administrator.

Enrollees who are subject to the premium rate increase effective November 1, 2016 will receive an offer package from Long Term Care Partners, LLC, with personalized options to allow them to reduce their coverage in order to mitigate the effect of the premium increase.

Enrollees who make coverage changes outside of the personalized options provided during the Enrollee Decision Period may be subject to full underwriting, as specified in § 875.403, and different premium calculation rules.

Qualified enrollees under these special rules: Persons enrolled in a FLTCIP standard plan whose application was received on or before July 31, 2015, and whose enrollment was approved, are eligible to make changes during the Enrollee Decision Period, provided they are not currently eligible for benefits and were not 80 years of age or older at purchase. Qualified enrollees will receive an offer package with personalized options.

Underwriting requirements: Eligible enrollees who wish to reduce their coverage or keep their current coverage (subject to any applicable rate increase) will be able to do so without underwriting. They may also change to a specified personalized option without underwriting. No enrollee's coverage will change unless he or she voluntarily chooses to change it. Coverage increases require full underwriting.

Billing age: For enrollees who retain their current benefits, premiums are based on the enrollee's age at purchase. For enrollees who choose to increase their benefits, outside of the Enrollee Decision Period personalized options, premiums will be determined on a blended rate basis, taking into account the enrollee's age at purchase and the enrollee's attained age as of November 1, 2016.

Premiums: Enrollees affected by the premium increase will receive detailed written information in the 2016 Enrollee Decision Period offer package. This package will be mailed from Long Term Care Partners, LLC, the program administrator, and will include the specific amount of their increase. The package will also include personalized options to help enrollees reduce the effect of the premium increase. At least one of the options will allow enrollees to reduce coverage in order to maintain their current premium at or below the current level that is paid. Premiums for coverage changes will vary according to the coverage options selected. Eligible enrollees may also be given an opportunity to stop paying premiums and convert their coverage to a paid-up, limited benefit (a consumer protection feature that is built into FLTCIP coverage).

Effective date: The effective date of coverage changes that do not require underwriting will be November 1, 2016. Coverage changes requiring underwriting, if approved, will be effective the first day of the month following approval of the request, but not before November 1, 2016.

Enrollees who make coverage changes during the Enrollee Decision Period will receive a new Schedule of Benefits. Enrollees will have 30 days after the date the Schedule of Benefits is received to cancel their Enrollee Decision Period coverage changes and revert to their original coverage with the full premium increase.

Authority: 5 U.S.C. 9008; 5 CFR 875.402.

U.S. Office of Personnel Management.
Beth Cobert,
Acting Director.

[FR Doc. 2016-17212 Filed 7-19-16; 11:15 am]

BILLING CODE 6325-63-P